FEDERAL COMMUNICATIONS COMMISSION

47 CFR Part 73

[DA 25-911; MB Docket No. 25-298; FR ID 316223]

Radio Broadcasting Services; Various Locations

AGENCY: Federal Communications Commission.

ACTION: Proposed rule.

SUMMARY: This document proposes to amend the Table of FM Allotments, by substituting Channel 277A for vacant Channel 221A at Hamilton, Alabama; Channel 261B1 for vacant Channel 261B at Coalinga, California; Channel 289A for vacant Channel 291A at Rocksprings, Texas; Channel 261A for vacant Channel 221A at Silverton, Texas; and Channel 281C2 for vacant Channel 260C2 at Spur, Texas. The existing vacant FM channels are not in compliance with the minimum distance separation requirements of the Federal Communications Commission (Commission) rules, and vacant Channel 261B at Coalinga is also not in compliance with the city-grade coverage requirements of the Commission's rules. See Supplementary Information.

DATES: Comments must be filed on or before November 21, 2025, and reply comments on or before December 8, 2025.

ADDRESSES: Secretary, Federal Communications Commission, 45 L Street NE, Washington, DC 20554.

FOR FURTHER INFORMATION CONTACT: Rolanda F. Smith, Media Bureau, (202) 418-2054, Rolanda-Faye.Smith@fcc.gov.

SUPPLEMENTARY INFORMATION: This is a synopsis of the Commission's Notice of Proposed Rule Making, MB Docket No. 25-298, adopted September 30, 2025, and released September 30, 2025. The full text of the Commission decision is available online at https://www.fcc.gov/ecfs. The full text of this decision can also be downloaded in Word or Portable Document Format (PDF) at https://www.fcc.gov/edocs. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will publish the required summary of this notice of proposed rulemaking on https://www.fcc.gov/proposed-rulemakings, pursuant to The Providing Accountability Through Transparency Act, see 5 U.S.C. 553(b)(4).

Channel 277A can be allotted to Hamilton, Alabama consistent with the minimum distance separation requirements of 47 CFR 73.207, provided there is a site restriction of 7 kilometers (4.4 miles) north of the community at reference coordinates 34-11-50 NL and 88-01-37 WL. Channel 261B1 can be allotted to Coalinga, California consistent with the minimum distance separation requirements of 47 CFR 73.207, without a site restriction at the community's reference coordinates 36-8-23 NL and 120-21-37 WL. Channel 289A can be allotted to Rocksprings, Texas consistent with the minimum distance separation requirements of 47 CFR 73.207, provided there is a site restriction of 12.1 kilometers (7.5 miles) west of the community at reference coordinates 29-59-52 NL and 100-20-10 WL. Channel 261A can be allotted to Silverton, Texas consistent with the minimum distance separation requirements of 47 CFR 73.207, provided there is a site restriction of 11 kilometers (6.8 miles) northwest of the community at reference coordinates 34-33-34 NL and 101-21-13 WL. Channel 281C2 can be allotted to Spur, Texas consistent with the minimum distance separation requirements of 47 CFR 73.207, provided there is a site restriction of 22.5 kilometers (14 miles) east of the community at reference coordinates 33-26-51 NL and 100-36-59 WL.

Provisions of the Regulatory Flexibility Act of l980 do not apply to this proceeding.

Members of the public should note that from the time a notice of proposed rulemaking is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

Proposed Rules

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.202(b), amend table 1 (Table of FM Allotments) under Alabama by revising in alphabetical order an entry for “Hamilton”;

3. In § 73.202(b), amend table 1 (Table of FM Allotments) under California by revising in alphabetical order an entry for “Coalinga”;

4. In § 73.202(b), amend table 1 (Table of FM Allotments) under Texas in alphabetical order by:

a. Revising the entry for “Rocksprings”;

b. Revising the entry for “Silverton”; and

c. Adding the entry for “Spur”.

The revisions and addition read as follows:

§ 73.202 Table of Allotments.

* * * * *

(b) Table of FM Allotments.

Table 1 to Paragraph (b)
[U.S. States]
| Channel No.
* * * * *
Alabama
* * * * *
Hamilton | 277A
* * * * *
California
* * * * *
Coalinga | 261B1
* * * * *
Texas
* * * * *
Rocksprings | 289A
* * * * *
Silverton | 261A
* * * * *
Spur | 281C2
* * * * *

[FR Doc. 2025-20229 Filed 11-17-25; 8:45 am]

BILLING CODE 6712-01-P